ENVIRONMENTAL PROTECTION AGENCY

40 CFR Part 52

[EPA-R04-OAR-2023-0232; FRL-11600-02-R4]

Air Plan Approval; GA; Miscellaneous Rule Revision

AGENCY: Environmental Protection Agency (EPA).

ACTION: Final rule.

SUMMARY: The Environmental Protection Agency (EPA) is approving a State Implementation Plan (SIP) revision submitted by the State of Georgia, through the Georgia Environmental Protection Division (EPD) via a letter dated October 20, 2022. The revision seeks to change Georgia's Rules for Air Quality Control in the SIP by removing the 1971 annual and 24-hour ambient air quality primary standard for sulfur dioxide (SO2), which no longer apply in Georgia as of April 30, 2022. EPA is approving this SIP revision because the State has demonstrated that this change is consistent with the Clean Air Act (CAA or Act).

DATES: This rule is effective March 7, 2024.

ADDRESSES: EPA has established a docket for this action under Docket Identification No. EPA-R04-OAR-2023-0232. All documents in the docket are listed on the www.regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Josue Ortiz Borrero, Air Regulatory Management Section, Air Planning and Implementation Branch, Air and Radiation Division, U.S. Environmental Protection Agency, Region 4, 61 Forsyth Street SW, Atlanta, Georgia 30303-8960. Mr. Ortiz can be reached via phone number (404) 562-8085 or via electronic mail at ortizborrero.josue@epa.gov.

SUPPLEMENTARY INFORMATION:

I. Background

When EPA revised the primary SO2 national ambient air quality standards (NAAQS) on June 2, 2010, to a new 1-hour short-term SO2 standard at a level of 75 parts per billion (ppb) (codified at 40 CFR 50.17) 1 2 the agency concluded it was appropriate to revoke the 24-hour and annual primary standards, stating “a 1-hour standard at [a] level of 75 ppb would have the effect of maintaining 24-hour and annual SO2 concentrations generally well below the levels of the current 24-hour and annual NAAQS”. See 75 FR 35550. Even though the 2010 1-hour standard was considered more protective than the previous SO2 NAAQS, EPA included anti-backsliding provisions to ensure that the health protection provided by the prior 24-hour and annual SO2 standards continues to be achieved as well as maintained as states transition to the new standard. Specifically, 40 CFR 50.4(e) provides that the 1971 SO2 NAAQS will no longer apply to an area one year after the effective date of the designation of that area for the 2010 SO2 NAAQS set forth in § 50.17; except that the 1971 SO2 NAAQS remains in effect for areas that are nonattainment for that NAAQS as of the effective date of the 2010 SO2 NAAQS, and areas not meeting the requirements of a SIP call with respect to requirements for the 1971 SO2 NAAQS until that area submits, and EPA approves, an implementation plan providing for attainment of the 2010 SO2 NAAQS.³

¹ The 1-hour SO2 standard provide requisite protection of public health with an adequate margin of safety. The 1-hour standard is met at an ambient air quality monitoring site when the 3-year average of the annual 99th percentile of daily maximum 1-hour average concentrations is less than or equal to 75 ppb, as determined in accordance with appendix T to 40 CFR part 50 and 40 CFR 50.17(a) and (b) EPA established See 75 FR 35520 and https://www.gpo.gov/fdsys/pkg/FR-2010-06-22/pdf/2010-13947.pdf.

² See also NAAQS Table at https://www.epa.gov/criteria-air-pollutants/naaqs-table.

³ Federal Regulation 40 CFR 50.4(e) established when the 1971 SO2 NAAQS would be revoked in areas in the country, and when it was necessary to retain the older SO2 standards, setting conditions needed for the eventual transition to the new 1-hour SO2 NAAQS.

EPA completed designations for the 2010 SO2 NAAQS in four rounds: June 3, 2013 (“Round 1”), July 2, 2016 (“Round 2”), December 31, 2017 (“Round 3”), and December 31, 2020 (“Round 4”). EPA designated all counties in Georgia as attainment/unclassifiable for the 1-hour primary SO2 NAAQS through three Rounds of SO2 designations from 2016 through 2021, with an April 30, 2021, effective for the final Round 4 designations.⁴ Thus, on April 30, 2022, one year after the effective date of the Round 4 designations, pursuant to 40 CFR 50.4(e), the primary 24-hour and annual SO2 NAAQS no longer applied in Georgia. Moreover, with no SO2 nonattainment areas in Georgia for the 1971 or 2010 SO2 NAAQS, the revocation of the 1971 SO2 standards would not be deferred until nonattainment and maintenance planning requirements were met as required pursuant to 40 CFR 50.4(e). For these reasons, EPA is finalizing approval of Georgia's October 20, 2022, revision to Rule 391-3-1-.02(4), “Ambient Air Standards”, at paragraph (b), “Sulfur Dioxide” to remove the 1971 24-hour and annual SO2 NAAQS from the SIP.

⁴ See 40 CFR 81.311.

II. EPA's Action

EPA is finalizing approval of Georgia EPD's SIP revision submitted to EPA on October 20, 2022, seeking to revise the Air Quality Control SIP Rule 391-3-1-.02(4), “Ambient Air Standards”, at paragraph (b), “Sulfur Dioxide.” to remove the 1971, primary 24-hour SO2 NAAQS of 0.14 ppm and the annual SO2 standard of 0.03 ppm,⁵ which no longer apply in Georgia as of April 30, 2022. Specifically, the submission includes changes to Rule 391-3-1-.02(4) which include the removal of the 1971 annual and 24-hour standard and the renumbering of the remaining provisions of Rule 391-3-1-.02(4)(b).

⁵ EPA promulgated the 1971 primary and secondary NAAQS for SO2 on April 30, 1971. See 36 FR 8186. The 1971 primary SO2 standards of 365 µg/m³ (0.14 ppm), averaged over a period of 24 hours and not to be exceeded more than once per year, and 80 µg/m³ (0.03 ppm), as an annual arithmetic mean.

Through a notice of proposed rulemaking (NPRM), published on December 21, 2023 (88 FR 88308), EPA proposed to approve Georgia's EPD's October 20, 2022, SIP revision to Rule 391-3-1 in accordance with 40 CFR 50.4(e) to remove the 1971 annual and 24-hour SO2 standards from the Georgia SIP. The details of the submission, as well as EPA's rationale for changing this rule, are described in more detail in EPA's December 21, 2023, NPRM. Comments on the December 21, 2023, NPRM were due on or before January 22, 2024. EPA did not receive any comments on the December 21, 2023, NPRM.

III. Incorporation by Reference

In this document, EPA is finalizing regulatory text that includes incorporation by reference. In accordance with requirements of 1 CFR 51.5, and as explained in Section I of this preamble, EPA is finalizing the incorporation of Georgia Rule 391-3-1-.02(4), “Ambient Air Standards,” paragraph (b), “Sulfur Dioxide,” State effective September 19, 2022, which removes subparagraphs (b)1 and (b)2 and renumbers the remaining provisions accordingly. EPA has made, and will continue to make, these materials generally available through www.regulations.gov and at the EPA Region 4 Office (please contact the person identified in the FOR FURTHER INFORMATION CONTACT section of this preamble for more information). Therefore, these materials have been approved by EPA for inclusion in the State implementation plan, have been incorporated by reference by EPA into that plan, are fully federally enforceable under sections 110 and 113 of the CAA as of the effective date of the final rulemaking of EPA's approval, and will be incorporated by reference in the next update to the SIP compilation.⁶

⁶ 62 FR 27968 (May 22, 1997).

IV. Final Action

EPA is finalizing the approval of the aforementioned changes to Georgia's October 20, 2022, SIP submittal, which remove the 1971 annual and 24-hour primary SO2 NAAQS from the Georgia SIP at Rule 391-3-1-.02(4), due to a Federal revocation of these standards.

V. Statutory and Executive Order Reviews

Under the CAA, the Administrator is required to approve a SIP submission that complies with the provisions of the CAA and applicable Federal regulations. See 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

Georgia EPD did not evaluate EJ considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving EJ for people of color, low-income populations, and Indigenous peoples.

This action is subject to the Congressional Review Act, and EPA will submit a rule report to each House of the Congress and to the Comptroller General of the United States. This action is not a “major rule” as defined by 5 U.S.C. 804(2).

Under section 307(b)(1) of the Clean Air Act, petitions for judicial review of this action must be filed in the United States Court of Appeals for the appropriate circuit by April 8, 2024. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: January 31, 2024.
Jeaneanne Gettle,
Acting Regional Administrator, Region 4.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart L—Georgia

2. In § 52.570, amend table 1 to paragraph (c) by revising the entry for “391-3-1-.02(4)” to read as follows:

§ 52.570 Identification of plan.

* * * * *

(c) * * *

Table 1 to Paragraph (c)—EPA-Approved Georgia Regulations
State citation | Title/subject | State effective date | EPA approval date | Explanation
* * * * * * *
391-3-1-.02 | Provisions
* * * * * * *
391-3-1-.02(4) | Ambient Air Standards | 9/19/2022 | 2/6/2024, [Insert citation of publication] | Except paragraphs (a), (c), (d), (e), (f), (g), and (h), approved on 12/4/2018 with a state effective date of 7/20/2017.
* * * * * * *

* * * * *

[FR Doc. 2024-02321 Filed 2-5-24; 8:45 am]

BILLING CODE 6560-50-P